FEDERAL COMMUNICATIONS COMMISSION

Public Information Collections Approved by Office of Management and Budget

June 9, 2009.

The Federal Communications Commission (FCC) has received Office of Management and Budget (OMB) approval for the following public information collection pursuant to the Paperwork Reduction Act of 1995, Public Law 104-13. An agency may not conduct or sponsor and a person is not required to respond to a collection of information unless it displays a currently valid control number.

FOR FURTHER INFORMATION CONTACT: Contact Judith B. Herman, Federal Communications Commission, at (202) 418-0214 or via the Internet at Judith-B.Herman@fcc.gov.

SUPPLEMENTARY INFORMATION: OMB Control No.: 3060-0999.

Expiration Date: 06/30/2012.

Title: Hearing Aid Compatibility Status Report and Section 20.19, Hearing Aid-Compatible Mobile Handsets (Hearing Aid Compatibility Act).

Form No.: FCC Form 655—electronic only.

Estimated Annual Burden: 925 responses; 12,063 total annual hours; 2.5 hours per response.

Needs and Uses: In the Report and Order in WT Docket 01-309, FCC 03-168, adopted and released in September 2003, the Federal Communications Commission modified the exemption for telephones used with public mobile services from the requirements of the Hearing Aid Compatibility Act of 1988 (HAC Act). The Order required digital wireless phone manufacturers and service providers to make certain digital wireless phones capable of effective use with hearing aids, label certain phones they sold with information about their compatibility with hearing aids, and report to the Commission (at first every six months, then on an annual basis) on the numbers and types of hearing aid compatible phones they were producing or offering to the public.

In February 2008, the Commission adopted final rules in a Report and Order (FCC 08-68) that updated several performance benchmarks and instituted new requirements. To assist the Commission in monitoring the implementation of the new requirements and to provide information to the public, the Report and Order also required manufacturers and service providers to continue to file annual reports on the status of their compliance with the requirements, and required manufacturers and service providers that maintain public websites to publish up-to-date information on those websites regarding their hearing aid-compatible handset models.

Now, as part of its continuing effort to reduce paperwork burden, the Commission is eliminating the use of paper-based annual reports and will require annual reports filed by manufacturers and service providers to be submitted using electronic FCC Form 655 beginning July 15, 2009. Use of the electronic FCC Form 655 will help filers ensure that their reports include all of the required information, will facilitate the Commission's compilation of data from the reports, and will decrease the paperwork burden overall.

Federal Communications Commission.
Marlene H. Dortch,
Secretary.

[FR Doc. E9-13945 Filed 6-11-09; 8:45 am]

BILLING CODE 6712-01-P